DEPARTMENT OF LABOR

Employment and Training Administration

[TA-W-56,663]

Sohnen Enterprises, Inc., Santa Fe Springs, CA; Dismissal of Application for Reconsideration

Pursuant to 29 CFR 90.18(C) an application for administrative reconsideration was filed with the Director of the Division of Trade Adjustment Assistance for workers at Sohnen Enterprises, Inc., Santa Fe Springs, California. The application contained no new substantial information which would bear importantly on the Department's determination. Therefore, dismissal of the application was issued.

TA-W-56,663; Sohnen Enterprises, Inc. Santa Fe Springs, California (May 26, 2005)

Signed at Washington, DC, this 26th day of May 2005.
Timothy Sullivan,
Director, Division of Trade Adjustment Assistance.

[FR Doc. E5-2947 Filed 6-8-05; 8:45 am]

BILLING CODE 4510-30-P